DEPARTMENT OF JUSTICE

Federal Bureau of Investigation

Agency Information Collection Activities: Proposed Collection; Comments Requested

ACTION: 30-Day Notice of Information Collection Under Review: FBI Questionnaire for National Security Positions.

The Department of Justice (DOJ), Federal Bureau of Investigations (FBI) has submitted the following information collection request to the Office of Management and Budget (OMB) for review and approval in accordance with the Paperwork Reduction Act of 1995. The proposed information collection is published to obtain comments from the public and affected agencies. This proposed information collection was previously published in the Federal Register Volume 68, Number 150, page 46227 on August 5, 2003, allowing for a 60 day comment period.

The purpose of this notice is to allow for an additional 30 days for public comment until December 26, 2003. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202)-395-5806. Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of This Information Collection

(1) Type of Information Collection: New Collection.

(2) Title of the Form/Collection: FBI Questionnaire for National Security Positions.

(3) Agency form number, if any, and the applicable component of the Department of Justice sponsoring the collection: Form Number: FD-957, Federal Bureau of Investigation, U.S. Department of Justice.

(4) Affected public who will be asked or required to respond, as well as a brief abstract: Primary: Federal Government. Other: Individuals. In accordance with the FBI's efforts to re-engineer the hiring process for FBI employment and in accordance with the Paperwork Reduction Act of 1995, Public Law 104.13.109 Stat.163, the FBI has determined that suitability determinations and the granting/denying of security clearances can be made based on information provided by applicants on the SF-86, Questionnaire for National Security Positions in addition to a supplemental FBI form to collect collateral information. This form has been designated as FD-957, FBI Questionnaire for National Security Positions.

(5) An estimate of the total number of respondents and the amount of time estimated for an average respondent to respond: It is estimated that 50,000 respondents with an average response rate of one-half hour to complete each form.

(6) An estimate of the total public burden (in hours) associated with the collection: There are an estimated 25,000 total annual burden hours associated with this collection.

FOR FURTHER INFORMATION CONTACT: Brenda E. Dyer, Deputy Clearance Officer, United States Department of Justice, Justice Management Division, Policy and Planning Staff, Patrick Henry Building, Suite 1600, 601 D Street NW., Washington, DC 20530.

Dated: November 20, 2003.
Brenda E. Dyer,
Deputy Clearance Officer, Department of Justice.

[FR Doc. 03-29358 Filed 11-24-03; 8:45 am]

BILLING CODE 4410-02-P